Proclamation 9035 of October 4, 2013

German-American Day, 2013

By the President of the United States of America

A Proclamation

Since the first German settlers joined the Jamestown colony in 1608, German Americans have helped shape our identity—the small band of families who left the banks of the Rhine to found Germantown, Pennsylvania; the men, women, and children who fled the tyranny of fascism; the multitudes who sailed across the Atlantic to seek liberty and opportunity on our shores. On German-American Day, we celebrate the vibrant threads of German heritage woven into our national fabric.

Over the centuries, German Americans have participated in every sector of our society. They have helped steer our Nation's journey—as artists and scientists, as journalists who tested the limits of a free press, as titans of industry, and as workers who turned the gears of industrial revolution. Today, nearly one in four Americans can trace their ancestry to Germany, and all of us are inheritors to the values and traditions handed down through generations of German Americans.

As close partners in the global community, the United States and Germany work side-by-side to advance our common interests and common ideals: freer societies, cleaner skies, peoples empowered to choose their own destinies, greater prosperity for our two nations and for the world. Today, as we celebrate the contributions of German Americans across a wide breadth of history, let us renew the bonds of friendship between our two peoples.

NOW, THEREFORE, I, BARACK OBAMA, President of the United States of America, by virtue of the authority vested in me by the Constitution and the laws of the United States, do hereby proclaim October 6, 2013, as German-American Day. I encourage all Americans to learn more about the history of German Americans and reflect on the many contributions they have made to our Nation.

IN WITNESS WHEREOF, I have hereunto set my hand this fourth day of October, in the year of our Lord two thousand thirteen, and of the Independence of the United States of America the two hundred and thirty-eighth.

[FR Doc. 2013-24499

Filed 10-15-13; 8:45 am]

Billing code 3295-F4